DEPARTMENT OF THE INTERIOR

Bureau of Land Management

[LLCOS06000 L10200000.EE0000]

Notice of Intent To Amend the Resource Management Plan for the Bureau of Land Management Gunnison Field Office and Prepare an Associated Environmental Impact Statement, Colorado

AGENCY: Bureau of Land Management, Interior.

ACTION: Notice.

SUMMARY: In compliance with the National Environmental Policy Act of 1969, as amended (NEPA), and the Federal Land Policy and Management Act of 1976, as amended (FLPMA), the Bureau of Land Management (BLM) Gunnison Field Office, Gunnison, Colorado, intends to prepare a Resource Management Plan (RMP) amendment with an associated Environmental Impact Statement (EIS) and by this notice is announcing the beginning of the scoping process to solicit public comments and identify issues.

DATES: This notice initiates the public scoping process for the RMP amendment with associated EIS. Comments on issues may be submitted in writing until March 16, 2015. The date(s) and location(s) of any scoping meetings will be announced at least 15 days in advance through local media, newspapers and the BLM Web site at: http://www.blm.gov/co/st/en/fo/gfo.html. In order to be included in the Draft EIS, all comments must be received prior to the close of the 30-day scoping period or 15 days after the last public meeting, whichever is later. The BLM will provide additional opportunities for public participation as appropriate.

ADDRESSES: You may submit comments on issues and planning criteria related to the Gunnison Field Office RMP amendment/EIS by any of the following methods:

• Email: blm_co_gfo_nepa_comments@blm.gov.

• Fax: 970-642-4990.

• Mail: 210 West Spencer Street, Suite A, Gunnison, CO 81230.

Documents pertinent to this proposal may be examined at the BLM Gunnison Field Office at the address above.

FOR FURTHER INFORMATION CONTACT: Kristi Murphy, Outdoor Recreation Planner; telephone, 970-642-4955; address, 210 West Spencer Street, Suite A, Gunnison, CO 81230; email, blm_co_gfo_nepa_comments@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM Gunnison Field Office intends to prepare an RMP amendment with an associated EIS for 16 domestic sheep grazing allotments, announces the beginning of the scoping process and seeks public input on issues and planning criteria. The planning area is located in Gunnison, Hinsdale, and portions of Montrose, Ouray, and San Juan counties, Colorado. The planning area encompasses approximately 115,000 acres of public land. The BLM will analyze grazing that is currently authorized by five livestock grazing permits in the planning area. The five livestock grazing permits authorize sheep grazing on twelve grazing allotments. Eight of those allotments completely or partly overlap with mapped Rocky Mountain bighorn sheep (RMBS) habitat. Livestock grazing authorized by these five permits has not yet been fully analyzed in compliance with NEPA; therefore, these permits are currently being authorized under the authority of Public Law 108-108 and Public Law 111-8. In addition, the BLM will analyze livestock grazing on four other livestock grazing allotments located in areas south and west of Lake City, Colorado, which are currently vacant (domestic livestock grazing is not currently permitted on those allotments). Although there is no demand for livestock grazing on these four vacant allotments, the risk of contact with RMBS is high if permitted. Because the BLM may change livestock grazing allocations through this process, the BLM may need to amend its Resource Management Plan. These changes could include making some areas and related allotments unavailable to livestock grazing; adjusting area-wide forage availability for livestock; and making some areas or allotments that are currently unavailable to livestock grazing available for that use.

Over the past 30 years, the bighorn sheep population in the area has increased to a level indicating a healthy, stable population. New information about disease transmission between domestic sheep and RMBS indicates that contact between the species can pose a risk to the health of the RMBS population. The potential for disease transmission is a particular concern in areas where the risk of contact between species is high and design criteria or mitigation measures to achieve separation may not be effective. To fully analyze the direct, indirect and cumulative impacts of authorizing livestock grazing in bighorn sheep habitat areas, the EIS will consider the five livestock grazing permits, including the associated grazing allotments outside of RMBS habitat, as well as four allotments that are currently vacant and unpermitted.

The purpose of the public scoping process is to determine relevant issues that will influence the scope of the environmental analysis, including alternatives, and guide the planning process. Preliminary issues for the plan amendment area have been identified by BLM personnel; Federal, State, and local agencies; and other stakeholders. The issues include: RMBS population health, domestic sheep grazing, socio-economics, riparian area conditions, noxious weeds, Canada lynx habitat, Gunnison Sage-Grouse habitat and upland soils. Preliminary planning criteria include:

1. The BLM will continue to manage the Gunnison Field Office in accordance with the Federal Land Policy and Management Act of 1976, 43 U.S.C. 1701 (et seq.), other applicable laws and regulations and all existing public land laws.

2. The RMP amendment will be developed using an interdisciplinary approach to identify alternatives and analyze resource impacts, including cumulative impacts to natural and cultural resources and the social and economic environment.

3. The amendment process will follow the FLPMA planning process and the BLM will develop an EIS analyzing the amendment, consistent with NEPA.

You may submit comments on issues and planning criteria in writing to the BLM at any public scoping meeting, or you may submit them to the BLM using one of the methods listed earlier in the ADDRESSES section. To be most helpful, you should submit comments by the close of the 30-day scoping period or within 15 days after the last public meeting, whichever is later.

Before including your address, phone number, email address or other personal identifying information in your comment, you should be aware that your entire comment—including your personal identifying information—may be made publicly available at any time. While you can ask us in your comment to withhold your personal identifying information from public review, we cannot guarantee that we will be able to do so. The minutes and list of attendees for each scoping meeting will be available to the public and open for 30 days after the meeting to any participant who wishes to clarify the views he or she expressed.

The BLM will evaluate identified issues to be addressed in the plan amendment, and will place them into one of three categories:

1. Issues to be resolved in the plan amendment;

2. Issues to be resolved through policy or administrative action; or

3. Issues beyond the scope of this plan amendment.

The BLM will provide an explanation in the Draft RMP amendment/Draft EIS as to why an issue was placed in category two or three. The public is also encouraged to help identify any management questions and concerns that should be addressed in the plan amendment. The BLM will work collaboratively with interested parties to identify the management decisions that are best suited to local, regional, and national needs and concerns.

The BLM will use the NEPA public participation requirements to assist the agency in satisfying the public involvement requirements under Section 106 of the National Historic Preservation Act (NHPA) (16 U.S.C. 470(f)) pursuant to 36 CFR 800.2(d)(3). The information about historic and cultural resources within the area potentially affected by the proposed action will assist the BLM in identifying and evaluating impacts to such resources in the context of both NEPA and Section 106 of the NHPA.

The BLM will consult with Indian tribes on a government-to-government basis in accordance with Executive Order 13175 and other policies. Tribal concerns, including impacts on Indian trust assets and potential impacts to cultural resources, will be given due consideration. Federal, State and local agencies, along with tribes and other stakeholders that may be interested in or affected by the proposed action the BLM is evaluating, are invited to participate in the scoping process and, if eligible, may request or be requested by the BLM to participate in the development of the environmental analysis as a cooperating agency. The BLM will use an interdisciplinary approach to develop the plan amendment in order to consider the variety of resource issues and concerns identified. Specialists with expertise in the following disciplines will be involved in the planning process: rangeland management, minerals and geology, forestry, outdoor recreation, archaeology, paleontology, wildlife and fisheries, lands and realty, hydrology, soils, sociology, and economics.

Authority: 40 CFR 1501.7 and 43 CFR 1610.2

Ruth Welch,
BLM Colorado State Director.

[FR Doc. 2015-02946 Filed 2-12-15; 8:45 am]

BILLING CODE 4310-JB-P